DEPARTMENT OF ENERGY

Federal Energy Regulatory Commission

[Docket No. RP01-87-001]

Tennessee Gas Pipeline Company; Notice of Compliance Filing

February 16, 2001.

Take notice that on February 9, 2001, Tennessee Gas Pipeline Company (Tennessee), tendered for filing as part of its FERC Gas Tariff, Fifth Revised Volume No. 1, Third Revised Sheet No. 95B, with an effective date of April 1, 2001.

Tennessee states that the revised tariff sheets are being filed in compliance with the “Order on Complaint” issued by the Commission in the captioned proceeding on January 10, 2001. Tennessee Gas Pipeline Company, 94 FERC ¶ 61,006 (2001) (“Order”). Consistent with the Order, Tennessee proposes to revise Section 3.4(c) of Rate Schedule FS to permit proportionate releases of capacity and to clarify Section 3.4. Tennessee proposes an effective date of April 1, 2001.

Tennessee states that copies of the filing have been mailed to each of the parties that have intervened in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-4506 Filed 2-22-01; 8:45 am]

BILLING CODE 6717-01-M